DEPARTMENT OF DEFENSE

Department of the Army

Army Science Board; Notice of Open Meeting

In accordance with Section 10(a)(2) of the Federal Advisory Committee Act (Pub. L. 92-463), announcement is made of the following Committee Meeting:

Name of Committee: Army Science Board (ASB).

Date(s) of Meeting: 21 & 22 May 2002.

Times(s) of Meeting: 0900-1700, 21 May 2002, 0900-1300, 22 May 2002.

Place: SAIC.

1. The Acquisition and Technology Panel, Army Science Board FY02 Summer Study on “Affordability of the Objective Force” is holding a meeting on 21-22 May 2002. The meeting will be held at SAIC, 1710 SAIC Drive, McLean, VA. The meeting will begin at 0900 hrs on the 21st and will end at approximately 1300 hrs on the 22nd. for further information, please contact Tom Conway—703-617-9438 or e-mail: TCONWAY@hqamc.army.mil.

Wayne Joyner,
Program Suppport Specialist, Army Science Board.

[FR Doc. 02-11812 Filed 5-10-02; 8:45 am]

BILLING CODE 3710-08-M